DEPARTMENT OF DEFENSE

Office of the Secretary

[Docket ID: DoD-2021-OS-0022]

Notice of Request for Comments on Executive Order “America's Supply Chains”

AGENCY: Office of the Deputy Assistant Secretary of Defense (Industrial Policy), Department of Defense (DoD).

ACTION: Notice of request for public comments.

SUMMARY: On February 24, 2021, President Biden issued the Executive Order “America's Supply Chains,” which directs several Federal agency actions to secure and strengthen America's supply chains. One of these directions is for the Secretary of Defense (as the National Defense Stockpile Manager pursuant to the Strategic and Critical Materials Stock Piling Act), in consultation with the heads of appropriate agencies, shall submit a report, within 100 days, identifying risks in the supply chain for strategic and critical materials as well as policy recommendations to address these risks.

DATES: The due date for submitting comments is April 28, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: Matthew D. Zolnowski, Office of the Deputy Assistant Secretary of Defense for Industrial Policy, at (703) 697-0051 or osd.pentagon.ousd-a-s.mbx.industrial-policy@mail.mil.

SUPPLEMENTARY INFORMATION:

Background

On February 24, 2021, President Biden issued E.O. 14017, “America's Supply Chains.” The E.O. published in the Federal Register on March 1, 2021 at 86 FR 11849-11854 (available at https://www.govinfo.gov/content/pkg/FR-2021-03-01/pdf/2021-04280.pdf) (E.O. 14017). E.O. 14017 focuses on the need for resilient, diverse, and secure supply chains to ensure U.S. economic prosperity and national security. Such supply chains are needed to address conditions that can reduce critical manufacturing capacity and the availability and integrity of critical goods, products, and services. In relevant part, E.O. 14017 directs that within 100 days, the Secretary of Defense (as the National Defense Stockpile Manager pursuant to the Strategic and Critical Materials Stock Piling Act (50 U.S.C. 98 et seq.)), in consultation with the heads of appropriate agencies, shall submit a report identifying risks in the supply chain for strategic and critical materials and policy recommendations to address these risks.

This notice requests comments and information from the public to assist the DoD in preparing the report required by E.O. 14017. In developing this report, the Secretary will consult with the heads of appropriate agencies, and will be advised by all relevant DoD Components.

Written Comments

The DoD is particularly interested in comments and information directed to the policy objectives listed in E.O. 14017 as they affect the U.S. and global supply chains for strategic and critical materials. The Department is seeking input, from both consumers and producers of strategic and critical materials and downstream products containing these materials, as well as from those with relevant expertise, on the following topics:

i. Increasing transparency in strategic and critical material supply chains;

ii. Diversifying sources of supply for strategic and critical materials, including domestic sources and foreign allies/partners;

iii. Diversifying production sources, such as primary extraction, co-production, and to include reclamation from mine, industrial, and end-of-life products;

iv. Promoting environmental, health and safety, labor, fair trade and a level playing field in global markets;

v. Establishing and strengthen manufacturing of value-added products, containing strategic and critical materials, which support the U.S. economy;

vi. Methods to reduce exposure to price volatility and supply shocks in strategic and critical material supply chains;

vii. Availability of material and manufacturing process substitutes for at-risk strategic and critical materials;

viii. The availability of skilled labor and other personnel to sustain a competitive strategic and critical materials ecosystem, including the domestic education and manufacturing workforce skills;

ix. The availability of manufacturing capabilities, such as single points of failure in supply chains or nonexistent, threatened, or single-point-of-failure capabilities, or single or dual suppliers;

x. The spectrum of risk to supply disruption, taking into account the duration (i.e., short, medium, long), geographic scope (local, regional, global), intensity (magnitude of aggregate supply disruption), ability to meet projected demand at a specific supply chain node, and the probability of the disruption event;

xi. The spectrum of risk to the development and maintenance of sustainable supply chains, such as violations of human rights and forced labor;

xii. Research, development, and demonstration priorities to support production or and an advanced manufacturing base for strategic and critical materials;

xiii. Policy recommendations or suggested executive, legislative, regulatory action to foster more resilient supply chains for strategic and critical materials while promoting stewardship of affected communities and the environment;

xiv. Recommendations for long term research, development and demonstration (RD&D) investments necessary for reimagining a more sustainable and secure US critical materials supply chain of the future; or

xv. Any additional comments relevant to the assessment of strategic and critical materials required by E.O. 14017.

The DoD encourages commenters, when addressing the elements above, to structure their comments using the same text as identifiers for the areas of inquiry to which their comments respond to assist the DoD in more easily reviewing and summarizing the comments received in response to these specific comment areas. For example, a commenter submitting comments responsive to (i), “Increasing transparency in critical minerals and strategic material supply chains”, would use that same text as a heading in the public comment followed by the commenter's specific comments in this area. The Department encourages the use of an Executive Summary at the beginning of all comments and information to affect a more efficient departmental review of the submitted documents.

Requirements for Written Comments

The http://www.regulations.gov website allows users to provide comments by filling in a “Type Comment” field, or by attaching a document using an “Upload File” field. The DoD prefers that comments be provided in an attached document. The Department prefers submissions in Microsoft Word (.doc files) or Adobe Acrobat (.pdf files). If the submission is in an application format other than Microsoft Word or Adobe Acrobat, please indicate the name of the application in the “Type Comment” field. Please do not attach separate cover letters to electronic submissions; rather, include any information that might appear in a cover letter within the comments. Similarly, to the extent possible, please include any exhibits, annexes, or other attachments in the same file, so that the submission consists of one file instead of multiple files. Comments (both public comments and non-confidential versions of comments containing business confidential information) will be placed in the docket and open to public inspection. Comments may be viewed on http://www.regulations.gov by entering docket number DoD-2021-OS-0022 in the search field on the home page.

All filers should name their files using the name of the person or entity submitting the comments. Anonymous comments are also accepted. Communications from agencies of the United States Government will not be made available for public inspection.

Anyone submitting business confidential information should clearly identify the business confidential portion at the time of submission, file a statement justifying nondisclosure and referring to the specific legal authority claimed, and provide a non-confidential version of the submission. The non-confidential version of the submission will be placed in the public file on http://www.regulations.gov. For comments submitted electronically containing business confidential information, the file name of the business confidential version should begin with the characters “BC”. Any page containing business confidential information must be clearly marked “BUSINESS CONFIDENTIAL” on the top of that page. The non-confidential version must be clearly marked “PUBLIC”. The file name of the non-confidential version should begin with the character “P”. The “BC” and “P” should be followed by the name of the person or entity submitting the comments or rebuttal comments. If a public hearing is held in support of this assessment, a separate Federal Register notice will be published providing the date and information about the hearing. The Office of the Deputy Assistant Secretary of Defense (Industrial Policy) does not maintain a separate public inspection facility.

Dated: April 6, 2021.
Aaron T. Siegel,
Alternate OSD Federal Register Liaison Officer, Department of Defense.

[FR Doc. 2021-07539 Filed 4-12-21; 8:45 am]

BILLING CODE 5001-06-P